DEPARTMENT OF THE TREASURY

Submission for OMB Review; Comment Request

November 17, 2009.

The Department of the Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury PRA Department Clearance Officer, Department of the Treasury, Room 11010, and 1750 Pennsylvania Avenue, NW., Washington, DC 20220.

DATES: Written comments should be received on or before December 23, 2009 to be assured of consideration.

Internal Revenue Service (IRS)

OMB Number: 1545-0892.

Type of Review: Extension.

Title: Report of Cash Payment Over $10,000 Received in a Trade or Business.

Form: 8300, 8300-SP.

Description: Anyone in a trade or business who, in the course of such trade or business, receives more than $10,000 in cash or foreign currency in one or more related transactions must report it to the IRS and provide a statement to the payer. Any transaction that must be reported under Title 31 on Form 4789 is exempted from reporting the same transaction on Form 8300. The USA Patriot Act of 2001 (Pub. L. 107-56) authorized the Financial Crimes Enforcement Network to collect the information reported on Form 8300. In a joint effort to develop a dual use form, IRS and FinCEN worked together to ensure that the transmission of the data collected to * * *.

Respondents: Businesses or other for-profits.

Estimated Total Burden Hours: 87,757 hours.

Clearance Officer: R. Joseph Durbala, (202) 622-3634, Internal Revenue Service, Room 6516, 1111 Constitution Avenue, NW., Washington, DC 20224.

OMB Reviewer: Shagufta Ahmed, (202) 395-7873, Office of Management and Budget, Room 10235, New Executive Office Building, Washington, DC 20503.

Celina M. Elphage,
Treasury PRA Clearance Officer.

[FR Doc. E9-27977 Filed 11-20-09; 8:45 am]

BILLING CODE 4830-01-P